DEPARTMENT OF COMMERCE

National Oceanic and Atmospheric Administration

RIN 0648-XF97

Marine Mammals; File No. 10137

AGENCY: National Marine Fisheries Service (NMFS), National Oceanic and Atmospheric Administration (NOAA), Commerce.

ACTION: Notice; receipt of application.

SUMMARY: Notice is hereby given that the NMFS Pacific Islands Fisheries Science Center, Marine Mammal Research Program (MMRP), 2570 Dole Street, Honolulu, HI 96822-2396 (Responsible Party: George A. [Bud] Antonelis, Jr.), has applied in due form for a permit to conduct research and enhancement activities on Hawaiian monk seals (Monachus schauinslandi).

DATES: Written, telefaxed, or e-mail comments must be received on or before April 7, 2008.

ADDRESSES: The application and related documents are available for review upon written request or by appointment in the following office(s):

Permits, Conservation and Education Division, Office of Protected Resources, NMFS, 1315 East-West Highway, Room 13705, Silver Spring, MD 20910; phone (301)713-2289; fax (301)713-0376; and

Pacific Islands Region, NMFS, 1601 Kapiolani Blvd., Rm 1110, Honolulu, HI 96814-4700; phone (808)944-2200; fax (808)973-2941.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)713-0376, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 10137.

FOR FURTHER INFORMATION CONTACT: Amy Sloan or Kate Swails, (301)713-2289.

SUPPLEMENTARY INFORMATION: The subject permit is requested under the authority of the Marine Mammal Protection Act of 1972, as amended (16 U.S.C. 1361 et seq.), the regulations governing the taking and importing of marine mammals (50 CFR part 216), the Endangered Species Act of 1973, as amended (16 U.S.C. 1531 et seq.), and the regulations governing the taking, importing, and exporting of endangered and threatened species (50 CFR 222-226).

The MMRP proposes to continue research and enhancement activities on Hawaiian monk seals currently authorized under Permit No. 848-1695. The purposes of the proposed activities are to (1) assess survivorship, reproductive rates, pup production, condition, abundance, movements among subpopulations, and incidence and causes of injury or mortality; (2) diagnose disease, monitor exposure to disease, and develop normal baseline hematology and biochemistry parameters; (3) conduct activities to increase survival of individuals; and (4) investigate foraging ecology to determine foraging locations, diving parameters, characteristics of foraging substrate, and prey identification and foraging behaviors.

The type and manner of research takes proposed include monitoring (ground, vessel, and aerial surveys); marking (bleach marks, flipper tags, passive integrated transponder [PIT] tags, photo-identification) and measuring (morphometrics); health and disease assessments (capture, sedation, biological sampling [swabs, fecal loop, blood, blubber biopsy]; administration of an anthelminthic to assess efficacy of reducing intestinal parasite loads in pups and juveniles; import/export of specimens; necropsies; and opportunistic specimen collection); and foraging studies (instrumentation). The type and manner of enhancement takes includes translocations of pups and juveniles to increase survival; removal of adult males known to kill immature seals; and disentanglements of seals.

The following takes will occur annually: Up to 1,440 seals of any age/sex could be incidentally disturbed from monitoring activities; 200 seals may be incidentally disturbed during all other research and enhancement activities. Up to 1,315 seals will be bleach marked, and a total of 556 seals of any size or sex except lactating females and nursing pups will be flipper and PIT tagged, measured, and sampled for flipper plugs (includes retagging). Up to 80 seals of any age/sex will be sampled for health and disease screening, tagged, and measured. Up to 75 immature seals of either sex will be translocated. Up to 50 seals of any age/sex except lactating females or nursing pups will be externally tagged with instrumentation, flipper/PIT tagged, and sampled for health and disease screening (additional to above screening). Up to 200 seals of either sex, up to age 3 years, will be treated for intestinal parasites. An unlimited number of seals will be disentangled. Necropsies will be performed on all carcasses, and samples (molt, scat, spew, urine, placentae) will be collected opportunistically from beaches. Samples may be exported/imported for analysis.

The following takes may occur over the 5-year duration of the permit: Up to 5 adult males may be relocated or removed to enhance survival of immature animals; up to 10 moribund seals of any age/sex may be humanely euthanized or die incidental to handling; up to 5 incidental mortalities may occur during research and enhancement activities.

Other species which may be incidentally taken annually are threatened green turtles (Chelonia mydas) and endangered Laysan finches (Telespyza cantans). Non-listed marine mammals that may be incidentally taken are spinner dolphins (Stenella longirostris).

Geographic locations of the take include the Hawaiian Archipelago (Main Hawaiian Islands and Northwestern Hawaiian Islands) and Johnston Atoll. Specimen samples may be imported/exported world-wide. The permit is requested for a 5-year period.

Concurrent with the publication of this notice in the Federal Register, NMFS is forwarding copies of this application to the Marine Mammal Commission and its Committee of Scientific Advisors.

Dated: March 3, 2008.
P. Michael Payne,
Chief, Permits, Conservation and Education Division, Office of Protected Resources, National Marine Fisheries Service.

[FR Doc. E8-4374 Filed 3-5-08; 8:45 am]

BILLING CODE 3510-22-S